DEPARTMENT OF DEFENSE

Department of the Army

Availability for Non-Exclusive, Exclusive, or Partially Exclusive Licensing of U.S. Patent Application Concerning Automated Method of Identifying and Archiving Nucleic Acid Sequences

AGENCY: Department of the Army, DOD.

ACTION: Notice.

SUMMARY: In accordance with 37 CFR 404.6 and 404.7, announced is made of the available for licensing of U.S. Patent Application No. 09/961,058 entitled “Automated Method of Identifying and Archiving Nucleic Acid Sequences,” filed September 24, 2001. Foreign rights are also available (PCT/US01/29761). The United States Government, as represented by the Secretary of the Army has rights in this invention.

ADDRESSES: Commander, U.S. Army Medical Research and Materiel Command, ATTN: Command Judge Advocate, MCMR-JA, 504 Scott Street, Fort Detrick, Frederick, MD 21702-5012.

FOR FURTHER INFORMATION CONTACT: For patent issues, Ms. Elizabeth Arwine, Patent Attorney, (301) 619-7807. For licensing issues, Dr. Paul Mele, Office of Research & Technology Assessment, (301) 619-6664, both at telefax (301) 619-5034.

SUPPLEMENTARY INFORMATION: A method of identifying and archiving a nucleic acid sequence.

Luz D. Ortiz,
Army Federal Register Liaison Officer.

[FR Doc. 02-16375 Filed 6-27-02; 8:45 am]

BILLING CODE 3710-08-M